NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 9, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Larry Baume, Acting Director, Life Cycle Management Division (NWML), National Archives and Records Administration, 8601 Adelphi Road, College Park, MD 20740-6001. Telephone: 301-837-1505. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, United States Patent and Trademark Office (N1-241-02-2, 2 items, 2 temporary items). Provisional patent applications and related copies that are received for initial review by the Office of Initial Patent Examination.

2. Department of Defense, Defense Threat Reduction Agency (N1-374-02-8, 17 items, 12 temporary items). Records relating to the operation of the Radiation Experiments Command Center (RECC). Temporary records include components of the RECC Database, related hard copy files, and administrative and working files as well as electronic copies of records created using word processing and electronic mail. Proposed for permanent retention are components and outputs of the RECC database, related system documentation, and paper files relating to human radiation experiments.

3. Department of Defense, National Reconnaissance Office (N1-525-02-2, 4 items, 4 temporary items). Employee grievance and management inquiry files. Also included are electronic copies of documents created using electronic mail and word processing.

4. Department of Energy, Idaho Operations Office (N1-434-02-1, 3 items 3 temporary items). Records relating recordings of ground velocity taken by a seismometer (seismogram records). Also included are the electronic copies of records created using electronic mail and word processing.

5. Department of Interior, U.S. Geological Survey (N1-57-02-4, 151 items, 145 temporary items). Records relating to acquisition, supply and grant matters, emergency planning, safety, security, and environmental matters, and property management. Records relate to such subjects as procurement, charge card purchases, grant programs, control of classified documents, protection and technical surveillance countermeasures, security and access control, misuse of government property, background investigations, safety training, hazardous waste management, emergency planning, environmental compliance, fire reports, personal property, motor vehicle and watercraft management, museum management, and real property management. Also included are electronic copies of records created using electronic mail, spreadsheet, and word processing applications. Proposed for permanent retention are recordkeeping copies of records relating to such subjects as agency document classification programs and policies, the protection of cultural resources and mineral resources, and pest management programs.

6. Department of Interior, U.S. Fish and Wildlife Service (N1-22-02-1, 8 items, 8 temporary items). Records relating to volunteer activities including such files as personnel records of volunteers, administrative files, reports, and rosters of volunteer personnel in both electronic and paper media. Also included are electronic copies of records created using electronic mail and word processing.

7. Department of State, Bureau of Administration (N1-59-02-5, 10 items, 10 temporary items). Records relating to personnel matters, including Foreign Service employee emergency locator records, files relating to leave, travel, and payroll, and death case files relating to agency employees who die while in-service. Also included are electronic copies of documents created using electronic mail and word processing.

8. Department of the Treasury, Office of General Counsel (N1-56-02-5, 58 items, 51 temporary). Attorney working files, document production records, legal matter files and related tracking systems, litigation files, standards of conduct files, records relating to the specific sanctions program, and other records accumulated by the Office of General Counsel. Also included are electronic copies of documents created using electronic mail and word processing. Proposed for permanent retention are recordkeeping copies of such files as general counsel memoranda, general counsel opinions, and selected records relating to significant legal matters and litigation.

9. Department of the Treasury, Bureau of the Public Debt, (N1-53-02-8, 10 items, 10 temporary items). Inputs, outputs, system documentation, and master files of the Internal Revenue Information System. This system reports interest earned on foreign owned accounts and is used to prepare IRS Forms 1042-S that are mailed to account holders. Also included are electronic copies of documents created using electronic mail and word processing applications.

10. Department of the Treasury, Bureau of the Public Debt, (N1-53-02-9, 12 items, 11 temporary items). Records of the Office of Public Debt Accounting, including such records as debt statements and reconciliations, financial statements and reconciliations, accounting reviews, and exception reports. Historical reports of the Government's debt and expenses are proposed for permanent retention.

11. Department of the Treasury, Bureau of the Public Debt (N1-53-02-10, 17 items, 15 temporary items). Savings Bond Marketing Office records consisting of reports and documents generated from the Payroll Savings Participation System and the Call and Progress Summary System. Records are used to develop and focus marketing efforts. Also included are electronic copies of documents created using electronic mail and word processing. Recordkeeping copies of Action Bulletins and Printed Promotional Materials are proposed for permanent retention.

12. Department of the Treasury, Bureau of the Public Debt, (N1-53-02-14, 6 items, 6 temporary items). Electronic records and related output reports used in connection with the printing, tracking, and distribution of agency forms.

13. Central Intelligence Agency, Directorate of Intelligence (N1-263-02-3, 7 items, 7 temporary items). Inputs, master data, outputs, backup tapes, and documentation for the Trade Data Aggregation and Recovery System, an electronic system containing international import and export data.

14. Executive Office of the President, Office of Telecommunications Policy (N1-429-02-3, 3 items, 1 temporary item). Reports prepared by study groups of the International Telegraph and Telephone Consultative Committee, 1968-1972. Proposed for permanent retention are files of the Assistant Director of the Office of Telecommunications Policy, 1971-1972, and subject files pertaining to communications matters, 1952-1970.

15. Farm Credit Administration, Agency-wide (N1-103-02-1, 4 items, 4 temporary items). Administrative subject files and records that document the Farm Credit Banks Funding Corporation's funding approval process. Records include correspondence and reports, offering circulars, term sheets, and sale confirmations. Also included are electronic copies of records created using electronic mail and word processing.

16. Office of Navajo and Hopi Indian Relocation, Executive Direction (N1-220-02-18, 3 items, 2 temporary items). Electronic copies of records created using electronic mail and word processing that relate to legislative history matters. Recordkeeping copies of these files are proposed for permanent retention.

17. Office of Navajo and Hopi Indian Relocation, Relocation Operations (N1-220-02-19, 7 items, 4 temporary items). Electronic copies of records created using electronic mail and word processing that relate to such matters as accommodation and stipulated settlement agreements, Hopi partitioned land reports, and residents on Hopi partitioned land who relinquished their interests in accommodation agreements. Recordkeeping copies of these files are proposed for permanent retention.

18. Tennessee Valley Authority, Transmission Power Supply (N1-142-01-4, 5 items, 5 temporary items). Paper and electronic surveying records including field notebooks, computation sheets, estimates, maps, reports, correspondence, and supporting materials. Also included are electronic copies of records created using word processing and electronic mail.

Dated: October 18, 2002.
Michael J. Kurtz,
Assistant Archivist for Record Services—Washington, DC.

[FR Doc. 02-27182 Filed 10-24-02; 8:45 am]

BILLING CODE 7515-01-P